DEPARTMENT OF TRANSPORTATION

Federal Aviation Administration

14 CFR Part 39

[Docket No. FAA-2011-1170; Directorate Identifier 2010-NM-264-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A300 B4-600, B4-600R, and F4-600R series airplanes, and Model C4-605R Variant F airplanes (collectively called A300-600 series airplanes), and Model A310 series airplanes that would supersede an existing AD. This proposed AD results from mandatory continuing airworthiness information (MCAI) originated by an aviation authority of another country to identify and correct an unsafe condition on an aviation product. The MCAI describes the unsafe condition as:

One operator experienced failures of four Fuel Level Sensor-Amplifier (FLSA) and Multi Tank Indicators (MTI) units. FLSA and MTI failures have been identified as having been caused by incorrect connector sleeves materials fitted to the MTI units.

Degradation of the electrical insulation sleeves of the Low-level indication lamps on the MTI of the flight deck can cause a short circuit that might result in high voltage being conveyed to the high and low level sensors in the wing tanks. This condition, if not corrected, could cause the level sensor to heat above acceptable limits, possibly resulting in fuel tank explosion, and consequent loss of the aeroplane.

* * * * *

The proposed AD would require actions that are intended to address the unsafe condition described in the MCAI.

DATES: We must receive comments on this proposed AD by December 22, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this proposed AD, contact Airbus SAS-EAW (Airworthiness Office), 1 Rond Point Maurice Bellonte, 31707 Blagnac Cedex, France; telephone +33 5 61 93 36 96; fax +33 5 61 93 44 51; email: account.airworth-eas@airbus.com; Internet http://www.airbus.com. For GE Aviation service information identified in this proposed AD, contact GE Aviation, Customer Support Center, 1 Neumann Way, Cincinnati, Ohio 45215; telephone (513) 552-3272; email cs.techpubs@ge.com; Internet http://www.geaviation.com. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2011-1170; Directorate Identifier 2010-NM-264-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On December 28, 2008, we issued AD 2009-02-04, Amendment 39-15794 (74 FR 7792, February 20, 2009). That AD required actions intended to address an unsafe condition on all Airbus Model A300-600 airplanes.

Since we issued AD 2009-02-04, Amendment 39-15794 (74 FR 7792, February 20, 2009), Airbus has issued new service information to correct interference between sensors and a fuel pipe at the connector level. We have determined that the following actions are necessary:

• Replacing the cockpit MTI,

• Replacing the high-level, low-level, and overflow sensors and their harness connectors with fused sensors and new harness connectors,

• Reinstating the low-level warning indication to the cockpit MTI, and

• Adding Model A310 series airplanes to the applicability of this proposed AD. The European Aviation Safety Agency (EASA), which is the Technical Agent for the Member States of the European Community, has issued EASA Airworthiness Directive 2010-0175, dated August 18, 2010 (referred to after this as “the MCAI”), to correct an unsafe condition for the specified products. The MCAI states:

One operator experienced failures of four Fuel Level Sensor-Amplifier (FLSA) and Multi Tank Indicators (MTI) units. FLSA and MTI failures have been identified as having been caused by incorrect connector sleeves materials fitted to the MTI units.

Degradation of the electrical insulation sleeves of the Low-level indication lamps on the MTI of the flight deck can cause a short circuit that might result in high voltage being conveyed to the high and low level sensors in the wing tanks. This condition, if not corrected, could cause the level sensor to heat above acceptable limits, possibly resulting in fuel tank explosion, and consequent loss of the aeroplane.

As an interim action, EASA AD 2008-0055 [which corresponds to FAA AD 2009-02-04, Amendment 39-15794 (74 FR 7792, February 20, 2009)], was issued requiring the accomplishment of wiring modifications to protect the FLSA and the Flight Warning Computers from 115V [volt] AC [alternating current] and 28V DC [direct current] short circuits within the cockpit MTI.

EASA AD 2009-0144, which required the replacement of the affected sensors and their harness connectors with modified units in accordance with the instructions of Airbus Service Bulletin (SB) A300-28-6095 at original issue or SB A300-28-9013 at original issue, as applicable, was further on cancelled because the installation of the new inner tank fused low-level sensors was not possible, due to interference between some sensors and a fuel pipe at connector level.

Airbus SB A300-28-6095 and SB A300-28-9013 have been revised to clear this interference. The replacement of the affected sensors and their harness connectors according to the instructions of these SBs is now possible.

This [EASA] AD supersedes [EASA] AD 2008-0055 and introduces the following actions:

—Expanding of the applicability to A310 aeroplanes; and

—Replacement of the cockpit MTI with a MTI with silicone sleeves and to reinstate the low level warning indication to the cockpit MTI; and

—Replacement of the affected sensors and their harness connectors by fused level sensor units for A300-600 and A300-600ST aeroplanes.

You may obtain further information by examining the MCAI in the AD docket.

Relevant Service Information

The following service information has been issued. The actions described in this service information are intended to correct the unsafe condition identified in the MCAI.

• Airbus Mandatory Service Bulletin A300-28-6095, Revision 01, dated February 2, 2010.

• Airbus Mandatory Service Bulletin A300-28-6101, dated June 4, 2008.

• Airbus Mandatory Service Bulletin A300-28-6103, Revision 01, dated May 18, 2010.

• Airbus Mandatory Service Bulletin A310-28-2167, dated June 4, 2008.

• GE Aviation Service Bulletin 1404KID-28-466, Revision 1, dated July 15, 2008.

• GE Aviation Service Bulletin 1406KID-28-467, Revision 1, dated July 15, 2008.

• GE Aviation Service Bulletin 1410KID-28-468, Revision 1, dated July 15, 2008.

• GE Aviation Service Bulletin 1420KID-28-469, Revision 1, dated July 23, 2008.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 210 products of U.S. registry.

The actions that are required by AD 2009-02-04, Amendment 39-15794 (74 FR 7792, February 20, 2009) and retained in this proposed AD take about 5 work-hours per product, at an average labor rate of $85 per work hour. Required parts cost about $0 per product. Based on these figures, the estimated cost of the currently required actions is $425 per product.

We estimate that it would take about 44 work-hours per product to comply with the new basic requirements of this proposed AD. The average labor rate is $85 per work-hour. Required parts would cost about $207 per product. Where the service information lists required parts costs that are covered under warranty, we have assumed that there will be no charge for these costs. As we do not control warranty coverage for affected parties, some parties may incur costs higher than estimated here. Based on these figures, we estimate the cost of the proposed AD on U.S. operators to be $828,870, or $3,947 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15794 (74 FR 7792, February 20, 2009) and adding the following new AD:

Airbus: Docket No. FAA-2011-1170; Directorate Identifier 2010-NM-264-AD.

Comments Due Date

(a) We must receive comments by December 22, 2011.

Affected ADs

(b) This AD supersedes AD 2009-02-04, Amendment 39-15794 (74 FR 7792, February 20, 2009).

Applicability

(c) This AD applies to Airbus Model A300 B4-601, B4-603, B4-620, B4-622, B4-605R, B4-622R, F4-605R, F4-622R, and C4-605R Variant F airplanes, and Model A310-203, -204, -221, -222, -304, -322, -324, and -325 airplanes; certificated in any category; all certified models, all manufacturer serial numbers.

Subject

(d) Air Transport Association (ATA) of America Code 28: Fuel.

Reason

(e) The mandatory continuing airworthiness information (MCAI) states:

One operator experienced failures of four Fuel Level Sensor-Amplifier (FLSA) and Multi Tank Indicators (MTI) units. FLSA and MTI failures have been identified as having been caused by incorrect connector sleeves materials fitted to the MTI units.

Degradation of the electrical insulation sleeves of the Low-level indication lamps on the MTI of the flight deck can cause a short circuit that might result in high voltage being conveyed to the high and low level sensors in the wing tanks. This condition, if not corrected, could cause the level sensor to heat above acceptable limits, possibly resulting in fuel tank explosion, and consequent loss of the aeroplane.

* * * * *

Compliance

(f) You are responsible for having the actions required by this AD performed within the compliance times specified, unless the actions have already been done.

Restatement of Requirements of AD 2009-02-04, Amendment 39-15794 (74 FR 7792, February 20, 2009), With No New Service Information

Actions and Compliance

(g) For Model A300-600 airplanes: Unless already done, within 3 months after March 27, 2009 (the effective date of AD 2009-02-04, Amendment 39-15794 (74 FR 7792, February 20, 2009)): Modify the wiring in the right-hand electronics rack in accordance with the Accomplishment Instructions of Airbus Mandatory Service Bulletin A300-28A6096, Revision 02, dated July 4, 2008. Previous accomplishment of the modification before March 27, 2009, in accordance with Airbus Mandatory Service Bulletin A300-28A6096, dated October 19, 2007; or Revision 01, dated April 16, 2008; meets the requirements in this paragraph. Doing the required actions in paragraph (h) or (i) of this AD, as applicable, terminates the actions required by this paragraph.

New Requirements of This AD, With New Service Information

Replacement and Re-Instatement

(h) For Model A300-600 series airplanes on which Airbus modification 06213 has been embodied in production: Within 24 months after the effective date of this AD, do the actions required by paragraphs (h)(1), (h)(2), and (h)(3) of this AD. Doing the actions in this paragraph terminates the requirements of paragraph (g) of this AD.

(1) Replace the cockpit MTI, in accordance with the Accomplishment Instructions of Airbus Mandatory Service Bulletin A300-28-6101, dated June 4, 2008.

(2) Before further flight after doing the replacement specified in paragraph (h)(1) of this AD: Replace the high-level, low-level, and overflow sensors and their harness connectors, with fused sensors and new harness connectors, in accordance with the Accomplishment Instructions of Airbus Mandatory Service Bulletin A300-28-6095, Revision 01, dated February 2, 2010.

(3) Before further flight after doing the replacement specified in paragraph (h)(2) of this AD: Re-instate the low-level warning indication to the cockpit MTI, in accordance with the Accomplishment Instructions of Airbus Mandatory Service Bulletin A300-28-6103, Revision 01, dated May 18, 2010.

(i) For Model A300-600 series airplanes on which Airbus modification 06213 has not been embodied in production: Within 24 months after the effective date of this AD, do the actions required by paragraphs (i)(1), (i)(2), and (i)(3) of this AD. Doing the actions in this paragraph terminates the requirements of paragraph (g) of this AD.

(1) Replace the cockpit MTI, in accordance with the Accomplishment Instructions of Airbus Mandatory Service Bulletin A300-28-6101, dated June 4, 2008.

(2) Before further flight after doing the replacement specified in paragraph (i)(1) of this AD: Re-instate the low-level warning indication to the cockpit MTI, in accordance with the Accomplishment Instructions of Airbus Mandatory Service Bulletin A300-28-6103, Revision 01, dated May 18, 2010.

(3) Before further flight after doing the action specified in paragraph (i)(2) of this AD: Replace the high-level, low-level, and overflow sensors and their harness connectors, with fused sensors and new harness connectors, in accordance with the Accomplishment Instructions of Airbus Mandatory Service Bulletin A300-28-6095, Revision 01, dated February 2, 2010.

(j) For Model A310 series airplanes: Within 24 months after the effective date of this AD, replace the cockpit MTI, in accordance with the Accomplishment Instructions of Airbus Mandatory Service Bulletin A310-28-2167, dated June 4, 2008.

Credit for Actions Accomplished in Accordance With Previous Service Information

(k) Re-instating the low-level warning indication to the cockpit MTI in accordance with the Accomplishment Instructions of Airbus Mandatory Service Bulletin A300-28-6103, dated May 20, 2009, before the effective date of this AD, is acceptable for compliance with the corresponding re-instatement required by paragraphs (h)(3) and (i)(2) of this AD.

Parts Installation

(l) As of the effective date of this AD, no person may install, on any airplane, any MTI in the cockpit location, unless it has been modified in accordance with the applicable service information listed in paragraphs (l)(1), (l)(2), (l)(3), (l)(4), (l)(5), and (l)(6) of this AD.

(1) Airbus Mandatory Service Bulletin A300-28-6101, dated June 4, 2008.

(2) Airbus Mandatory Service Bulletin A310-28-2167, dated June 4, 2008.

(3) GE Aviation Service Bulletin 1404KID-28-466, Revision 1, dated July 15, 2008.

(4) GE Aviation Service Bulletin 1406KID-28-467, Revision 1, dated July 15, 2008.

(5) GE Aviation Service Bulletin 1410KID-28-468, Revision 1, dated July 15, 2008.

(6) GE Aviation Service Bulletin 1420KID-28-469, Revision 1, dated July 23, 2008.

FAA AD Differences

Note 1: This AD differs from the MCAI and/or service information as follows: No differences.

Other FAA AD Provisions

(m) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, Washington 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(n) Refer to MCAI European Aviation Safety Agency Airworthiness Directive 2010-0175, dated August 18, 2010; Airbus Mandatory Service Bulletin A300-28-6095, Revision 01, dated February 2, 2010; Airbus Mandatory Service Bulletin A300-28-6101, dated June 4, 2008; Airbus Mandatory Service Bulletin A300-28-6103, Revision 01, dated May 18, 2010; Airbus Mandatory Service Bulletin A310-28-2167, dated June 4, 2008; GE Aviation Service Bulletin 1404KID-28-466, Revision 1, dated July 15, 2008; GE Aviation Service Bulletin 1406KID-28-467, Revision 1, dated July 15, 2008; GE Aviation Service Bulletin 1410KID-28-468, Revision 1, dated July 15, 2008; and GE Aviation Service Bulletin 1420KID-28-469, Revision 1, dated July 23, 2008; for related information.

Issued in Renton, Washington, on October 26, 2011.
Kalene C. Yanamura,
Acting Manager, Transport Airplane Directorate, Aircraft Certification Service.

[FR Doc. 2011-28754 Filed 11-4-11; 8:45 am]

BILLING CODE 4910-13-P